DEPARTMENT OF HEALTH AND HUMAN SERVICES

Centers for Disease Control and Prevention

[30Day-09-0730]

Agency Forms Undergoing Paperwork; Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Evaluation of the Effectiveness of the Smoke Alarm Installation and Fire Safety Education (SAIFE) Program [OMB No. 0920-0730 Exp. 9/30/2009]—Extension—National Center for Injury Prevention and Control (NCIPC), Centers for Disease Control and Prevention (CDC).

Background and Brief Description

This project seeks a one year extension of its OMB PRA clearance for data collection. Due to early project delays in obtaining clearances for data collection, the project was unable to start as planned and missed evaluating one program cycle, with a program cycle running for approximately one year. This extension is necessary in order to complete the project's original design of evaluating three program cycles of the SAIFE program as implemented in the State of North Carolina. An extension will allow completion of the evaluation of the third and final cycle of the program.

This project will use data from in-person interviews, paper and telephone surveys to assess the effectiveness of the Smoke Alarm Installation and Fire Safety Education (SAIFE) program and its efficacy in delivering fire safety information. The data will be collected from a convenience sample of adults 18 years of age or older who volunteer to participate in the SAIFE program. A total of 360 households will complete the evaluation each year of the data collection for a mass total of 1080 households over the next three years. Participants will be asked to complete a 15-minute survey at two points, once immediately before the intervention and then 6 months afterwards. The survey will assess outcome measures including, but not limited to, changes in knowledge, attitudes, beliefs, and behaviors regarding various aspects of fire safety and prevention; changes in reported residential fire-related injuries and deaths; increased or decreased presence of functioning smoke alarms; and the costs associated with the SAIFE intervention. The evaluation will measure these changes across time, between groups and within groups, among communities that will receive the SAIFE intervention.

CDC programs are currently funded in 16 States to provide for home installation of smoke alarms plus general fire safety education in households at high risk for fire and fire related injury and death. Programs of this type are intended to prevent fire related injury and mortality, but have not been studied scientifically to assess their impact on fire-related injury outcomes. The proposed study represents the first formal effort to evaluate the effectiveness and cost implications of the SAIFE program as implemented in North Carolina. The data collected in this study will have the potential to inform other smoke alarm installation programs, as well as indicate future priorities in prevention and preparedness for residential household fires. The only cost to the participant is the time involved to complete the surveys. The total estimated annualized burden hours are 251.

Estimate of Annualized Burden Table
Type of respondents | Number of respondents | Number of responses per respondent | Average burden per response (in hours)
Adult male and female (age 18+ years) screened | 425 | 1 | 5/60
Adult male and female (age 18+ years) Pre/Post Evaluation survey | 360 | 2 | 15/60
Adult male and female (age 18+ years) household visit | 36 | 1 | 1

Dated: August 26, 2009.
Maryam I. Daneshvar,
Acting Reports Clearance Officer, Centers for Disease Control and Prevention.

[FR Doc. E9-21041 Filed 8-31-09; 8:45 am]

BILLING CODE 4163-18-P